DEPARTMENT OF COMMERCE

International Trade Administration

Export Trade Certificate of Review

ACTION: Notice of issuance of an Amended Export Trade Certificate of Review, Application No. 84-13A12.

SUMMARY: The Department of Commerce has issued an amendment to the Export Trade Certificate of Review granted to Northwest Fruit Exporters (“NFE”) on June 11, 1984. Notice of issuance of the Certificate was published in the Federal Register on June 14, 1984 (49 FR 24581).

FOR FURTHER INFORMATION CONTACT: Jeffrey C. Anspacher, Director, Office of Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2001).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 84-00012, was issued to NFE on June 11, 1984 (49 FR 24581, June 14, 1984) and previously amended on May 2, 1988 (53 FR 16306, May 6, 1988); September 21, 1988 (53 FR 37628, September 27, 1988); September 20, 1989 (54 FR 39454, September 26, 1989); November 19, 1992 (57 FR 55510, November 25, 1992); August 16, 1994 (59 FR 43093, August 22, 1994); November 4, 1996 (61 FR 57850, November 8, 1996); October 22, 1997 (62 FR 55783, October 28, 1997); November 2, 1998 (63 FR 60304, November 9, 1998); October 20, 1999 (64 FR 57438, October 25, 1999); October 16, 2000 (65 FR 63567, October 24, 2000); and October 5, 2001 (66 FR 52111, October 12, 2001).

NFE's Export Trade Certificate of Review has been amended to:

1. Add each of the following companies as a new “Member” of the Certificate within the meaning of section 325.2(1) of the Regulations (15 CFR 325.2(1)): L & M Companies, Selah, Washington; Orondo Fruit Co., Inc., Orondo, Washington; and Rawland F. Taplett d/b/a R.F. Taplett Fruit & Cold Storage Co., Wenatchee, Washington;

2. Delete the following companies as “Members” of the Certificate: Chief Wenatchee Growers, Wenatchee, Washington; Dole Northwest, Wenatchee, Washington; Fossum Orchards, Inc., Yakima, Washington; Garrett Ranches Packing, Wilder, Idaho; R.E. Redman & Sons, Inc., Wapato, Washington; Regal Fruit Cooperative, Tonasket, Washington; Sun Fresh International, LLC, Wenatchee, Washington; Taplett Fruit Packing Inc., Wenatchee, Washington; Voelker Fruit & Cold Storage, Inc., Yakima, Washington; and Williamson Orchards, Caldwell, Idaho; and

3. Change the listing of the following Members: “Allan Bros., Inc., Naches, Washington” to the new listing “Allan Bros., Naches, Washington”; “Borton & Sons, Yakima, Washington” to “Borton & Sons, Inc., Yakima, Washington”; “Carlson Orchards, Yakima, Washington” to “Carlson Orchards, Inc., Yakima, Washington”; “CPC International Apple Co., Tieton, Washington” to “CPC International Apple Company, Tieton, Washington”; “Domex Marketing Co., Yakima, Washington” to “Domex Marketing, Yakima, Washington”; “Douglas Fruit Co., Pasco, Washington” to “Douglas Fruit Company, Inc., Pasco, Washington”; “Dovex Fruit Company, Wenatchee, Washington” to “Dovex Fruit Co., Wenatchee, Washington”; “Hansen Fruit & Cold Storage, Co., Yakima, Washington” to “Hansen Fruit & Cold Storage Co., Inc., Yakima, Washington”; “Jenks Bro. Cold Storage, Inc., Royal City, Washington” to “Jenks Bros. Cold Storage & Packing, Royal City, Washington”; “Kershaw Fruit & Cold Storage, Yakima, Washington” to “Kershaw Fruit & Cold Storage, Co., Yakima, Washington”; “Keystone Ranch, Riverside, Washington” to “Keystone Fruit Co. L.L.C. dba Keystone Ranch, Riverside, Washington”; “Lloyd Garretson, Co., Inc., Yakima, Washington” to “Lloyd Garretson Co. Yakima, Washington”; “Northern Fruit Co., Wenatchee, Washington” to “Northern Fruit Company, Inc., Wenatchee, Washington”; “Northwestern Fruit & Produce Co., Yakima, Washington” to “Apple King, LLC, Yakima, Washington”; “Obert Cold Storage, Zillah, Washington” to “Obert Cold Storage, Inc., Zillah, Washington”; “Poirier Packing & Warehouse, Pateros, Washington” to “Poirier Warehouse, Pateros, Washington”; “Price Cold Storage, Yakima, Washington” to “Price Cold Storage & Packing Co., Inc., Yakima, Washington”; “Rainier Fruit Sales, Selah, Washington” to “Rainier Fruit Company, Selah, Washington; “Rowe Farms, Naches, Washington” to “Rowe Farms, Inc., Naches, Washington”; “Sund-Roy, Inc., Yakima, Washington” to “Sund-Roy L.L.C., Yakima, Washington”; “Valley Fruit, Wapato, Washington” to “Valley Fruit III LLC, Wapato, Washington”; “Yakima Fruit & Cold Storage, Yakima, Washington” to “Yakima Fruit & Cold Storage Co., Yakima, Washington”; and “Zirkle Fruit Co., Selah, Washington” to “Zirkle Fruit Company, Selah, Washington”.

The effective date of the amended certificate is July 8, 2002. A copy of the amended certificate will be kept in the International Trade Administration's Freedom of Information Records Inspection Facility, Room 4102, U.S. Department of Commerce, 14th Street and Constitution Avenue, NW., Washington, DC 20230.

Dated: October 3, 2002.
Jeffrey C. Anspacher,
Director, Office of Export Trading, Company Affairs.

[FR Doc. 02-25682 Filed 10-8-02; 8:45 am]

BILLING CODE 3510-DR-P